DEPARTMENT OF JUSTICE

Antitrust Division

Notice Pursuant to the National Cooperative Research and Production Act of 1993—Green Seal, Inc.

Notice is hereby given that, on January 26, 2011, pursuant to Section 6(a) of the National Cooperative Research and Production Act of 1993, 15 U.S.C. 4301 et seq. (“the Act”), Green Seal, Inc. (“Green Seal”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Green Seal, Inc., Washington, DC. The nature and scope of Green Seal's standards development activities are: Green Seal's standards focus on significant opportunities to reduce a product, service, or organization's life cycle impact. The categories Green Seal covers with its standards includes building and construction products, cleaning products and services, companies, hotels and lodging, lighting products, paints and coatings, paper products, personal care products and service, restaurants and food services, and vehicles and vehicle maintenance.

Patricia A. Brink,
Director of Civil Enforcement, Antitrust Division.

[FR Doc. 2011-4923 Filed 3-4-11; 8:45 am]

BILLING CODE M